DEPARTMENT OF ENERGY

Federal Energy Regulatory Commission

[Docket No. CP01-359-000]

Dominion Transmission, Inc.; Notice of Application

May 17, 2001.

Take notice that on May 4, 2001, Dominion Transmission, Inc. (DTI), 445 West Main Street, Clarksburg, West Virginia 26301, filed in Docket No. CP01-359-000 an application pursuant to Section 7(b) of the Natural Gas Act (NGA) for permission and approval to abandon its storage well N205S, located in its Woodhull Storage Field in Steuben County, New York, all as more fully set forth in the application which is on file with the Commission and open to public inspection. This filing may be viewed on the web at http://www.ferc.fed.us/online/rims.htm (call 202-208-2222 for assistance).

DTI proposes to abandon its storage well N205S and to convert it to an observation well in the Woodhull Storage Pool. DTI requests authorization to abandon N205S because the expenditures required to maintain this well and the gathering lines that connect it to DTI's mainline are not operationally or economically justified. DTI also states that, due to continuing problems with the well and the connecting gathering line, the well has been unavailable to the gathering system each withdrawal season and is contributing nothing to pool deliverability. DTI states that the pool deliverability will be unaffected if well N205S is abandoned and converted to an observation well. DTI further states that it plans to abandon the lines that connect well N205S to DTI's mainline, specifically 1200 feet of 6-inch-diameter well line LN720S and 500 feet of 8-inch-diameter well line LN695S, under DTI's Part 157 blanket certificate authority.

Any questions regarding this application should be directed in writing to Sean R. Sleigh, Manager, Certificates, Dominion Transmission, Inc., 445 West Main Street, Clarksburg, West Virginia 26301 or by telephone at (304) 627-3462.

Any person desiring to be heard or any person desiring to make any protests with reference to said application should on or before June 7, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Comments, protests and interventions may be filed electronically via the internet in lieu of paper. See, 18 CFR 385.2001(a)(1)(iii) and the instructions on the Commission's web site at http://www.ferc.fed.us/efi/doorbell.htm.

Take further notice that, pursuant to the authority contained in and subject to the jurisdiction conferred upon the Federal Energy Regulatory Commission by Sections 7 and 15 of the NGA and the Commission's Rules of Practice and Procedure, a hearing will be held without further notice before the Commission or its designee on this application if no motion to intervene is filed within the time required herein, if the Commission on its own review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for DTI to appear or be represented at the hearing.

David P. Boergers,
Secretary.

[FR Doc. 01-12955 Filed 5-22-01; 8:45 am]

BILLING CODE 6717-01-M